DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: Evaluation of the Scholarships for Disadvantaged Students (SDS) Program—New

The Scholarships for Disadvantaged Students (SDS) program was established in 1990 to provide financial assistance to health professions and nursing students from disadvantaged backgrounds. A primary tenet of the SDS program is that students who come from disadvantaged backgrounds will be most likely to practice in Medically Underserved Communities (MUCs) after graduation. In this way, the SDS program is working to alleviate health profession and nursing shortages across the country.

The evaluation of this program will include a mail survey directed at graduates of SDS-participating institutions in the fields of allopathic and osteopathic medicine, dentistry, veterinary medicine, optometry, podiatry, pharmacy, nursing, allied health and behavioral and mental health. The survey will be directed at the 1996 graduates of allopathic and osteopathic medicine schools who participated in the SDS program in both 1996 and 2001. The survey will also be directed at the 1999 graduates of dentistry, veterinary medicine, optometry, podiatry, pharmacy, nursing, allied health and behavioral and mental health schools who participated in the SDS program in both 1999 and 2001. The information will identify the place and type of employment for each individual surveyed in order to determine whether or not the individual practiced in a MUC between July 1, 1999, and June 30, 2000. The data collected through this survey will be used to determine whether statistically significant differences exist between the rate at which disadvantaged versus non-disdvantaged individuals and SDS scholarship recipients versus non-recipients practice in MUCs after graduation. These data will also be used to determine whether differences exist in the rates at which individuals in different health professions work in MUCs. The results will be used to formulate programmatic and policy recommendations designed to strengthen the SDS program and increase its effectiveness.

Type of Survey | Number of respondents | Number of responses per respondent | Hours per response | Total burden hours
Questionnaire | 3,750 | 1 | .25 | 937.5

Written comments and recommendations concerning the proposed information collection should be sent within 30 days of this notice to: John Morrall, Human Resources and Housing Branch, Office of Management and Budget, New Executive Office Building, Room 10235, Washington, DC 20503.

Dated: August 9, 2001.
Jane M. Harrison,
Director, Division of Policy Review and Coordination.

[FR Doc. 01-20488 Filed 8-14-01; 8:45 am]

BILLING CODE 4165-15-P